FEDERAL COMMUNICATIONS COMMISSION

[DA 08-1058 and DA 08-1320]

Consumer Advisory Committee

AGENCY: Federal Communications Commission.

ACTION: Notice.

SUMMARY: The Commission announces the appointment of one (1) additional member to the Consumer Advisory Committee (“Committee”) and further announces the date and agenda of the Committee's next meeting.

DATES: The next meeting of the Committee will take place on Friday, June 27, 2008, 9 a.m. to 4 p.m., at the Commission's Headquarters Building, Room TW-C305, 445 12th Street, SW., Washington, DC 20554.

ADDRESSES: Federal Communications Commission, 445 12th Street, NW., Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On May 2, 2008, the Commission released Public Notice DA 08-1058, announcing the appointment of one (1) additional Committee member: American Council of the Blind represented by Eric Bridges. This appointment is effective immediately and shall terminate November 17, 2008 or when the Committee is terminated, whichever is earlier. On June 4, 2008, the Commission released Public Notice DA 08-1320, which announced the agenda, date and time of the Committee's next meeting.

At its June 27, 2008 meeting, the Committee will continue its consideration of DTV transition issues. The Committee will also consider recommendations regarding broadband/universal service, relay services and the provision of auditory access to televised programming containing emergency information. The Committee may also consider other consumer issues within the jurisdiction of the Commission. A limited amount of time on the agenda will be available for oral comments from the public.

The Committee is organized under and operates in accordance with the provisions of the Federal Advisory Committee Act, 5 U.S.C. App. 2 (1988). The meeting is open to the public. Members of the public may address the Committee or may send written comments to: Scott Marshall, Designated Federal Officer of the Committee, at the address indicated on the first page of this document.

The meeting site is fully accessible to people using wheelchairs or other mobility aids. Sign language interpreters, open captioning, assistive listening devices, and Braille copies of the agenda and handouts will be provided on site. Other reasonable accommodations for people with disabilities are available upon request. Include a description of the accommodation you will need, and a way we can contact you if we need more information. Last minute requests will be accepted, but may be impossible to fill. Send an e-mail to: fcc504@fcc.gov or call the Consumer & Governmental Affairs Bureau at 202-418-0530 (voice), 202-418-0432 (TTY).

Federal Communications Commission.
Catherine W. Seidel,
Chief, Consumer & Governmental Affairs Bureau.

[FR Doc. E8-13116 Filed 6-10-08; 8:45 am]

BILLING CODE 6712-01-P